COMMITTEE FOR PURCHASE FROM PEOPLE WHO ARE BLIND OR SEVERELY DISABLED

Procurement List Additions

AGENCY: Committee for Purchase From People Who Are Blind or Severely Disabled.

ACTION: Additions to the Procurement List.

SUMMARY: This action adds a products and services to the Procurement List that will be furnished by nonprofit agencies employing persons who are blind or have other severe disabilities.

DATES: Effective Date: 8/26/2013

ADDRESSES: Committee for Purchase From People Who Are Blind or Severely Disabled, 1401 S. Clark Street, Suite 10800, Arlington, Virginia, 22202-4149.

FOR FURTHER INFORMATION CONTACT: Patricia Briscoe, Telephone: (703) 603-7740, Fax: (703) 603-0655, or email CMTEFedReg@AbilityOne.gov.

SUPPLEMENTARY INFORMATION:

Additions

On 5/31/2013 (78 FR 32631-32632); 6/7/2013 (78 FR 34350-34351); and 6/14/2013 (78 FR 35874-35875), the Committee for Purchase From People Who Are Blind or Severely Disabled published notice of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the products and services to the Government.

2. The action will result in authorizing small entities to provide the products and services to the Government.

3. There are no known regulatory alternatives which would accomplish the objectives of the Javits-Wagner-O'Day Act (41 USC 8501-8506) in connection with the products and services proposed for addition to the Procurement List.

End of Certification

Accordingly, the following products and services are added to the Procurement List:

Products

NSN: 7510-00-NIB-9905—Self Stick Rectangular Flag, 1” x 1.7”, Bright Blue.

NPA: Association for the Blind and Visually Impaired—Goodwill Industries of Greater Rochester, Rochester, NY.

Contracting Activity: General Services Administration, New York, NY.

COVERAGE: A-List for the Total Government Requirement as aggregated by the General Services Administration.

NSN: 7920-00-NIB-0564—Towel, Cleaning, Non-woven Microfiber, Disposable, 16” x 16”.

NPA: Bestwork Industries for the Blind, Inc., Runnemede, NJ.

Contracting Activity: General Services Administration,, Fort Worth, TX.

COVERAGE: A-List for the Total Government Requirement as aggregated by the General Services Administration.

Services

Service Type/Location: Grounds Maintenance Service, U.S. Census Bureau National Processing Center, 1201 E 10th Street, Jeffersonville, IN.

NPA: Rauch, Inc., New Albany, IN.

Contracting Activity: Dept of Commerce, Bureau of the Census, Jeffersonville, IN.

Service Type/Location: Janitorial Service, Department of Transportation, Suisun Bay Reserve Fleet, 2595 Lake Herman Road, Benicia, CA.

NPA: Solano Diversified Services, Vallejo, CA.

Contracting Activity: Dept of Transportation, Maritime Administration, San Francisco, CA.

Patricia Briscoe,
Deputy Director, Business Operations (Pricing and Information Management).

[FR Doc. 2013-17984 Filed 7-25-13; 8:45 am]

BILLING CODE 6353-01-P